NUCLEAR REGULATORY COMMISSION

[Docket No. 50-397; NRC-2010-0029]

Energy Northwest; Columbia Generating Station Environmental Assessment and Finding of No Significant Impact

The U.S. Nuclear Regulatory Commission (NRC) is considering changes to the Emergency Plan, pursuant to 10 CFR 50.54, “Conditions of licenses,” paragraph (q), for Facility Operating License No. NPF-21, issued to Energy Northwest (EN, the licensee) for operation of the Columbia Generating Station (CGS), located in Benton County, Washington. Therefore, as required by 10 CFR 51.21, the NRC performed an environmental assessment. Based on the results of the environmental assessment, the NRC is issuing a finding of no significant impact.

Environmental Assessment

Identification of the Proposed Action

The proposed action would revise the Emergency Plan to support U.S. Department of Energy (DOE) non-intrusive surveillance and characterization activities within the 618-11 High-Level Waste Burial Ground (618-11). The 618-11 site is an 8-acre parcel located on DOE property that is directly adjacent to land leased by EN from the DOE, and is located wholly within CGS's Exclusion Area Boundary. The site was used from 1962 through 1967 and contains low- to high-activity waste, fission products, some plutonium-contaminated waste, and toxicological waste. The DOE intends to remediate 618-11 and other waste burial ground locations on the Hanford Site. The licensee proposes to modify the Emergency Plan to address inter-agency coordination, cooperation, and responsibilities for potential 618-11 site events and to add specific emergency action level criteria and actions associated with any potential toxic, flammable, or radioactive material release from an abnormal event at the 618-11 site that could pose a threat to the health and safety of licensee staff or visitors within the CGS exclusion area.

The proposed action is in accordance with the licensee's application dated April 28, 2010 (Agencywide Documents Access and Management System (ADAMS) Accession No. ML101250340), as supplemented by letter dated August 9, 2010 (ADAMS Accession No. ML102300537).

The Need for the Proposed Action

The 618-11 site is an 8-acre parcel located on DOE property that is directly adjacent to land leased by EN from the DOE, and is located wholly within CGS's Exclusion Area Boundary. The site was used from 1962 through 1967 and contains low- to high-activity waste, fission products, some plutonium-contaminated waste, and toxicological waste. The Hanford Federal Facility Agreement and Consent Order between the DOE, the U.S. Environmental Protection Agency, and the State of Washington, is the legal document that binds DOE to milestones to remediate the 618-11 site, among other waste burial ground locations, on the Hanford Site. The non-intrusive surveillance and characterization activities will obtain data and information necessary for planning future intrusive activities and remediation strategies. The licensee proposes to modify the Emergency Plan to address inter-agency coordination, cooperation, and responsibilities for potential 618-11 site events during the DOE's non-intrusive surveillance and characterization activities and to add specific emergency action level criteria and actions associated with any potential toxic, flammable, or radioactive material release from an abnormal event at the 618-11 site that could pose a threat to the health and safety of licensee staff or visitors within the CGS exclusion area.

The NRC has completed its evaluation of the proposed action and concludes that the proposed changes to the CGS Emergency Plan meet the standards of 10 CFR 50.47(b) and the requirements of Appendix E to 10 CFR part 50 and provide reasonable assurance that the licensee will take adequate protective measures in a radiological emergency. The NRC staff's safety evaluation will be provided with the license amendment that will be issued to the licensee approving the changes to the Emergency Plan.

In its application, the licensee also requested changes to the CGS Final Safety Analysis Report (FSAR). The NRC staff's determination regarding the proposed changes to the FSAR will be provided by separate correspondence.

Environmental Impacts of the Proposed Action

The NRC has completed its environmental assessment of the proposed Emergency Plan changes to CGS. The staff has concluded that the changes would not significantly affect plant safety and would not have a significant adverse effect on the probability of an accident occurring. The proposed action would not result in an increased radiological hazard beyond those previously analyzed in the Final Safety Analysis Report. There will be no change to radioactive effluents that affect radiation exposures to plant workers and members of the public. No changes will be made to plant buildings or the site property. Therefore, no changes or different types of radiological impacts are expected as a result of the proposed changes.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for CGS dated December 1981.

Agencies and Persons Consulted

In accordance with its stated policy, on September 21, 2010, the NRC staff consulted with the Washington State official, Mr. R. Cowley of the Office of Radiation Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated April 28, 2010, as supplemented by letter dated August 9, 2010. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 28th day of September 2010.
For The Nuclear Regulatory Commission.
Carl F. Lyon,
Project Manager, Plant Licensing Branch IV, Division of Operating Reactor Licensing, Office of Nuclear Reactor Regulation.

[FR Doc. 2010-24811 Filed 10-1-10; 8:45 am]

BILLING CODE 7590-01-P